DEPARTMENT OF HOMELAND SECURITY

Coast Guard

33 CFR Part 117

[Docket No. USCG-2014-0416]

Drawbridge Operation Regulations; Reynolds Channel, Nassau, NY

AGENCY: Coast Guard, DHS.

ACTION: Notice of deviation from drawbridge regulation.

SUMMARY: The Coast Guard has issued a temporary deviation from the operating schedule that governs the operation of the Long Beach Bridge, across Reynolds Channel, mile 4.7, at Nassau, New York. The deviation is necessary to allow the bridge to remain in the closed position for two and a half hours to facilitate a public event; the Town of Hempstead Annual Fireworks Display.

DATES: This deviation is effective between 9:30 p.m. and 12 a.m. on June 28, 2014 and June 29, 2014.

ADDRESSES: The docket for this deviation, [USCG-2014-0416] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC, 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Long Beach Bridge has a vertical clearance of 20 feet at mean high water, and 24 feet at mean low water in the closed position. The existing drawbridge operating regulations are found at 33 CFR 117.799(g).

The Town of Hempstead Department of Public Safety, requested a bridge closure to facilitate a public event, the Town of Hempstead Annual Salute to Veterans Fireworks Display.

Under this temporary deviation, the Long Beach Bridge may remain in the closed position between 9:30 p.m. and 12 a.m. on June 28, 2014, with a rain date of June 29, 2014. Vessels that can pass under the bridge in the closed position may do so at all times.

Reynolds Channel has commercial and recreational vessel traffic. There are no alternate routes. The bridge can be opened in the event of an emergency. No objections were received from the waterway users.

In accordance with 33 CFR 117.35(e), the drawbridge must return to its regular operating schedule immediately at the end of the effective period of this temporary deviation. This deviation from the operating regulations is authorized under 33 CFR 117.35.

Dated: June 6, 2014.
C.J. Bisignano,
Supervisory Bridge Management Specialist, First Coast Guard District.

[FR Doc. 2014-14168 Filed 6-16-14; 8:45 am]

BILLING CODE 9110-04-P